DEPARTMENT OF LABOR

Employment and Training Administration

[TA-W-64,912]

Road and Rail Services, Venice, IL; Notice of Negative Determination Regarding Application for Reconsideration

By application dated February 27, 2009, the petitioner requested administrative reconsideration of the Department's negative determination regarding eligibility to apply for Trade Adjustment Assistance (TAA), applicable to workers and former workers of the subject firm. The denial notice was signed on February 20, 2009 and published in the Federal Register on March 10, 2009 (74 FR 10303).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The negative TAA determination issued by the Department for workers of Road & Rail Services, Venice, Illinois was based on the finding that the worker group does not produce an article within the meaning of Section 222 of the Trade Act of 1974.

The petitioners contend that the Department erred in its interpretation of work performed at the subject facility and indicate that the workers of the subject firm performed services under contract to Norfolk and Southern Railroad in Venice, Illinois and that the railroad had a contract with Chrysler in Fenton, Missouri. The petitioner also stated that the workers of the subject firm prepared railcars so that the assembled Chrysler vehicles could safely be loaded. Furthermore, the petitioner alleged that the workers of the subject firm were laid off because Chrysler shifted production to Canada and stopped shipping its products through Venice, Illinois.

The petitioners alleged that because the subject firm provided services to a customer who in its turn provided services to another customer producing automobiles and which might be import impacted; workers of the subject firm should be eligible for Trade Adjustment Assistance.

The nature of the work involved is not an issue in ascertaining whether the petitioning workers are eligible for trade adjustment assistance, but whether they produced an article within the meaning of section 222 of the Trade Act of 1974. The fact that workers of the subject firm performed services for customers, which produces articles, does not imply production of an article within the meaning of Section 222.

The investigation revealed that the workers of Road & Rail Services, Venice, Illinois performed railcar maintenance for a local railroad and did not support production. These functions, as described above, are not considered production of an article within the meaning of Section 222 of the Trade Act of 1974.

The petitioner did not supply facts not previously considered; nor provide additional documentation indicating that there was either (1) a mistake in the determination of facts not previously considered or (2) a misinterpretation of facts or of the law justifying reconsideration of the initial determination.

After careful review of the request for reconsideration, the Department determines that 29 CFR 90.18(c) has not been met.

Conclusion

After review of the application and investigative findings, I conclude that there has been no error or misinterpretation of the law or of the facts which would justify reconsideration of the Department of Labor's prior decision. Accordingly, the application is denied.

Signed in Washington, DC, this 12th day of March 2009.
Elliott S. Kushner,
Certifying Officer, Division of Trade Adjustment Assistance.

[FR Doc. E9-6242 Filed 3-20-09; 8:45 am]

BILLING CODE 4510-FN-P